DEPARTMENT OF STATE

[Public Notice 4838]

Bureau of Nonproliferation

ACTION: Notice correction.

SUMMARY: The Department of State published a document in the Federal Register of September 20, 2004, concerning Imposition of Nonproliferation Measures on an Entity in China, Including A Ban on U.S. Government Procurement. This document contained an incorrect name.

FOR FURTHER INFORMATION CONTACT: On general issues: Vann H. Van Diepen, Office of Chemical, Biological and Missile Nonproliferation, Bureau of Nonproliferation, Department of State (202-647-1142). On U.S. Government procurement ban issues: Gladys Gines, Office of the Procurement Executive, Department of State (703-516-1691).

Correction

In the Federal Register of September 20, 2004, in FR Doc 04-21079 on page 56260-56261, in the third column, the correct name should read:

Xinshidai (also known as: China Xinshidai Company, XSD, China New Era Group or New Era Group).

Dated: September 21, 2004.
Holly West-Owen,
Federal Register Liaison, Department of State.

[FR Doc. 04-21611 Filed 9-24-04; 8:45 am]

BILLING CODE 4710-27-P